DEPARTMENT OF ENERGY

Federal Energy Regulatory Commission

[Docket No. RP05-43-000]

Dominion Cove Point LNG, LP; Notice of Proposed Changes in FERC Gas Tariff

November 2, 2004.

Take notice that on October 28, Dominion Cove Point LNG, LP (Cove Point) tendered for filing as part of its FERC Gas Tariff, Original Volume No. 1, the following tariff sheets, to become effective December 27, 2004:

Fifth Revised Sheet No. 5

Fifth Revised Sheet No. 6

Fifth Revised Sheet No. 8

Sixth Revised Sheet No. 11

Third Revised Sheet No. 23

Second Revised Sheet No. 51

Third Revised Sheet No. 71

Third Revised Sheet No. 72

Second Revised Sheet No. 203

Second Revised Sheet No. 213

First Revised Sheet No. 214

First Revised Sheet No. 215

Second Revised Sheet No. 243

Second Revised Sheet No. 400

First Revised Sheet No. 450

First Revised Sheet No. 455

First Revised Sheet No. 460

First Revised Sheet No. 465

Second Revised Sheet No. 475

Cove Point states that it is proposing a series of clarifications and/or modifications of its tariff to bring certainty to issues related to contract expirations and renewals and rights of first refusal (ROFR), and to the potential future uses of FPS capacity. Specifically, Cove Point states that it is addressing the following: negotiation of a contractual ROFR, negotiation of evergreen provisions, extension of contract terms, elimination of “Elected FTS” service option, and future allocation of FPS storage capacity to LTD-1 service.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, D.C. There is an “eSubscription” link on the web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-3099 Filed 11-9-04; 8:45 am]

BILLING CODE 6717-01-P